DEPARTMENT OF THE INTERIOR

National Park Service

[NPS-PWR-KAHO-14800; PPPWKAHOS0, PPMPSPD1Z.YM0000]

Notice of 2014 Meeting Schedule of the Na Hoa Pili O Kaloko-Honokohau Advisory Commission

AGENCY: National Park Service, Interior.

ACTION: Meeting notice.

SUMMARY: This notice sets forth the dates of meetings of the Na Hoa Pili O Kaloko-Honokohau Advisory Commission occurring in 2014.

DATES: The schedule for future public meetings of the Commission will be held on Fridays as follows: March 7, 2014 at 9:30 a.m. (HAWAII STANDARD TIME). June 20, 2014 at 9:30 a.m. (HAWAII STANDARD TIME). September 5, 2014 at 9:30 a.m. (HAWAII STANDARD TIME). December 5, 2014 at 9:30 a.m. (HAWAII STANDARD TIME).

ADDRESSES: The March 7, 2014, and the September 5, 2014, meetings will be held at the Kaloko-Honokohau National Historical Park Halau at the southern end of the park, located north of Honokohau Harbor with access through the Honokohau pedestrian entrance. Parking is available at Honolohau Harbor. The June 20, 2014, and the December 5, 2014, meetings will be held at the Kaloko-Honokohau National Historical Park Kaloko Picnic Area. Kaloko-Honokohau National Historical Park is located in Kailua Kona, HI 96740.

Agenda: Commission meeting will consist of the following:

1. Approval of Agenda

2. Chairman's Report

3. Superintendent's Report

4. Subcommittee Report

5. Commission Recommendations

6. Public Comment

FOR FURTHER INFORMATION CONTACT: Jeff Zimpfer, Environmental Protection Specialist, Kaloko-Honokohau National Historical Park, 73-4786 Kanalani Street, #14, Kailua Kona, Hawaii 96740, at (808) 329-6881, ext. 1500, or email: jeff_zimpfer@nps.gov.

SUPPLEMENTARY INFORMATION: The Na Hoa Pili O Kaloko-Honokohau Advisory Commission scope and objectives are as follows: the Kaloko-Honokohau National Historical Park was established by Section 505(a) of the Public Law 95-625, November 10, 1978, as amended. Section 505(f) of that law, as amended, established the Na Hoa Pili O Kaloko-Honokohau (The Friends of Kaloko-Honokohau), an advisory commission for the park. The Commission was re-established by Title VII, Subtitle E, Section 7401 of Public Law 111-11, the Omnibus Public Land Management Act of 2009. The Commission's new termination date is December 18, 2018.

The meetings are open to the public. Interested persons may make oral presentations to the Commission or file written statements. Such requests should be made to the Superintendent at least seven days prior to the meeting. Before including your address, telephone number, email address other personal identifying information in your comment, you should be aware that your entire comment—including your personal identifying information—may be made publicly available. While you may ask us in your comment to withhold your identifying information from public view, we cannot guarantee we will be able to do so.

Dated: January 23, 2014.
Alma Ripps,
Chief, Office of Policy.

[FR Doc. 2014-01752 Filed 1-29-14; 8:45 am]

BILLING CODE 4312-FF-P